DEPARTMENT OF COMMERCE

International Trade Administration

[A-570-040]

Truck and Bus Tires From the People's Republic of China: Rescission of Antidumping Duty Administrative Review; 2020-2021

AGENCY: Enforcement and Compliance, International Trade Administration, Department of Commerce.

SUMMARY: The Department of Commerce (Commerce) is rescinding the administrative review of the antidumping duty order on truck and bus tires from the People's Republic of China (China) covering the period of review (POR) February 1, 2020, through January 31, 2021, based on the timely withdrawal of the requests for review.

DATES: Applicable June 15, 2021.

FOR FURTHER INFORMATION CONTACT: Allison Hollander, AD/CVD Operations, Office I, Enforcement and Compliance, International Trade Administration, U.S. Department of Commerce, 1401 Constitution Avenue NW, Washington, DC 20230; telephone: (202) 482-2805.

SUPPLEMENTARY INFORMATION:

Background

On February 2, 2021, Commerce published a notice of opportunity to request an administrative review of the antidumping duty order on truck and bus tires from China for the period February 1, 2020, through January 31, 2021.¹ In February 2021, various producers and exporters timely requested an administrative review of the antidumping duty order with respect to truck and bus tires from China.²

¹ See Antidumping or Countervailing Duty Order, Finding, or Suspended Investigation; Opportunity to Request Administrative Review, 86 FR 7855 (February 2, 2021).

² See Giti Tire (Fujian) Company Ltd. and Giti Tire (Anhui) Company Ltd.'s Letter, “Truck and Bus Tires from the People's Republic of China: Request for Administrative Review,” dated February 26, 2021; and Guangrao Kaichi Trading Co., Ltd. and Shandong Huasheng Rubber Co., Ltd.'s Letter, “Truck and Bus Tires from the People's Republic of China—Request for Review,” dated February 26, 2021.

On April 1, 2021, pursuant to section 751(a) of the Tariff Act of 1930, as amended (the Act), and 19 CFR 351.221(c)(1)(i), we published in the Federal Register a notice of initiation of an administrative review of the antidumping duty order on truck and bus tires from China with respect to Giti Tire Global Trading Pte. Ltd.; Guangrao Kaichi Trading Co., Ltd.; Shandong Huasheng Rubber Co., Ltd.; Giti Tire (Fujian) Company Ltd.; and Giti Tire (Anhui) Company Ltd.³ In April and May 2021, the respondents timely withdrew their requests for an administrative review.⁴ Commerce received no other requests for an administrative review of the antidumping duty order.

³ See Initiation of Antidumping and Countervailing Duty Administrative Reviews, 86 FR 17124 (April 1, 2021) (Initiation Notice). Giti Tire (Fujian) Company Ltd. and Giti Tire (Anhui) Company Ltd. were inadvertently omitted from the Initiation Notice published on April 1, 2021. These omissions were corrected in the May 5, 2021, notice, Initiation of Antidumping and Countervailing Duty Administrative Reviews, 86 FR 23925 (May 5, 2021).

⁴ See Giti Tire (Fujian) Company Ltd., Giti Tire (Anhui) Company Ltd., Giti Tire Global Trading Pte. Ltd., and Giti Tire (USA) Ltd.'s Letter, “Truck and Bus Tires from the People's Republic of China: Withdrawal of Request for Administrative Review,” dated April 16, 2021; and Guangrao Kaichi Trading Co., Ltd. and Shandong Huasheng Rubber Co., Ltd.'s Letter, “Truck and Bus Tires from the People's Republic of China—Withdrawal of Request for Review,” dated May 3, 2021.

Rescission of Administrative Review

Pursuant to 19 CFR 351.213(d)(1), Commerce will rescind an administrative review, in whole or in part, if a party that requested a review withdraws the request within 90 days of the date of publication of notice of initiation of the requested review. All parties withdrew their request for review within 90 days of the publication date of the Initiation Notice. No other parties requested an administrative review of the antidumping duty order. Therefore, in accordance with 19 CFR 351.213(d)(1), we are rescinding the administrative review of the antidumping order on truck and bus tires from China for the period February 1, 2020, through January 31, 2021, in its entirety.

Assessment

Commerce will instruct CBP to assess antidumping duties on all appropriate entries of truck and bus tires from China during the POR at rates equal to the cash deposit rate of estimated antidumping duties required at the time of entry, or withdrawal from warehouse, for consumption, in accordance with 19 CFR 351.212(c)(1)(i). Commerce intends to issue appropriate assessment instructions to CBP no earlier than 35 days after the date of publication of this notice in the Federal Register.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification Regarding Administrative Protective Order

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

Notification to Interested Parties

This notice is issued and published in accordance with sections 751(a)(1) and 777(i)(1) of the Act, and 19 CFR 351.213(d)(4).

Dated: June 4, 2021.
James Maeder,
Deputy Assistant Secretary for Antidumping and Countervailing Duty Operations.

[FR Doc. 2021-12533 Filed 6-14-21; 8:45 am]

BILLING CODE 3510-DS-P